CORPORATION FOR NATIONAL AND COMMUNITY SERVICE

Proposed Information Collection; Submission for OMB Review; Comment Request

AGENCY: Corporation for National and Community Service.

ACTION: Notice.

SUMMARY: The Corporation for National and Community Service (hereinafter the “Corporation”), has submitted a public information collection request (ICR) entitled Learn and Serve America Application Instructions to the Office of Management and Budget (OMB) for review and approval in accordance with the Paperwork Reduction Act of 1995 (Pub. L. 104-13), (44 U.S.C. Chapter 35). A copy of the ICR, with applicable supporting documentation, may be obtained by calling the Corporation for National and Community Service, Cara Patrick, 202-606-6905 (cpatrick@cns.gov). Individuals who use a telecommunications device for the deaf (TTY-TDD) may call (202) 565-2799 between 8:30 a.m. and 5 p.m. Eastern time, Monday through Friday.

ADDRESSES: Comments may be submitted, identified by the title of the information collection activity, to the Office of information and Regulatory Affairs, Attn: Ms. Katherine Astrich, OMB Desk Office for the Corporation for National and community Service, by any of the following two methods within 30 days from the date of publication in this Federal Register .

(1) By fax to: (202) 395-6974, Attention: Ms. Katherine Astrich, OMB Desk Officer for the Corporation for National and Community Service; and

(2) Electronically by e-mail to: Katherine_T._Astrich@omb.eop.gov .

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments

A 60-day public comment Notice was published in the Federal Register on April 2, 2008. This comment period ended on June 2, 2008. No comments were received.

Description: The Corporation is seeking approval for the renewal of the Learn and Serve America Application Instructions used for grant competitions and continuation funding requests. The application is completed electronically using eGrants, the Corporation's web-based grants management system. Applicants respond to the questions included in these instructions in order to apply for funding through Learn and Serve America competitions.

Type of Review: Renewal.

Agency: Corporation for National and Community Service.

Title: Learn and Serve America Application Instructions.

OMB Number: 3045-0045 for Learn and Serve America School and Community-Based Application Instructions and 3045-0046 for Learn and Serve America Higher Education Instructions.

Affected Public: Current/prospective recipients of Learn and Serve America funding.

Total Respondents: 900.

Frequency: Annually, depending upon the availability of appropriations.

Average Time Per Response: Averages 8 hours.

Estimated Total Burden Hours: 7,200 hours.

Total Burden Cost (capital/startup): None.

Total Burden Cost (operating/maintenance): None.

Dated: July 9, 2008.
Amy Cohen,
Director, Learn and Serve America.

[FR Doc. E8-16164 Filed 7-14-08; 8:45 am]

BILLING CODE 6050-$$-P